INTERNATIONAL TRADE COMMISSION

[Investigation No. 337-TA-822]

Certain Integrated Circuits, Chipsets, and Products Containing Same Including Televisions; Notice of Commission Determination Not To Review an Initial Determination Terminating the Investigation; Termination of Investigation

AGENCY: U.S. International Trade Commission.

ACTION: Notice.

SUMMARY: Notice is hereby given that the U.S. International Trade Commission has determined not to review the presiding administrative law judge's (“ALJ”) initial determination (“ID”) (Order No. 18) granting a motion of respondents to terminate the investigation in its entirety. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 10, 2012, based on a complaint filed by Freescale Semiconductor, Inc. of Austin, Texas (“Freescale”), alleging violations of section 337 of the Tariff Act of 1930, as amended (19 U.S.C. 1337) in the importation into the United States, the sale for importation, and the sale within the United States after importation of certain integrated circuits, chipsets, and products containing same including televisions by reason of infringement of certain claims of U.S. Patent No. 5,467,455 (“the ’455 patent”). 77 FR 1505-6 (Jan. 10, 2012). The Notice of Investigation named the following as respondents: MediaTek Inc. of Hsinchu City, Taiwan; Zoran Corporation of Sunnyvale, California; Vizio, Inc. of Irvine, California; Sanyo Electric Co., Ltd. of Osaka, Japan; Sanyo North America Corporation of San Diego, California; Sanyo Manufacturing Corporation of Forrest City, Arizona; TPV Technology Limited of Hong Kong, China; TPV International (USA) Inc. of Austin, Texas; Top Victory Electronics (Taiwan) Co., of Zhounghe City, Taiwan; Top Victory Electronics (Fujian) Co., Ltd. of Fuqing City, China; AOC International (USA) Ltd. of Fremont, California (“AOC”); Envision Peripherals, Inc. of Fremont, California; Amtran Technology Co., Ltd. of Xinbei City, Taiwan; and Amtran Logistics, Inc. of Irvine, California. The Office of Unfair Import Investigations was named as a party. The Commission later terminated AOC from the investigation. See Notice (Mar. 21, 2012).

On July 20, 2012, several of the respondents collectively filed a motion to stay the procedural schedule pending the completion of Certain Integrated Circuits, Chipsets, and Products Containing Same Including Televisions, Inv. No. 337-TA-786. On August 6, 2012, the ALJ issued Order No. 17, granting the motion. On September 12, 2012, the Commission terminated Inv. No. 337-TA-786, finding no violation and further finding that the asserted claims of the ’455 patent are invalid as obvious. See 77 FR 57589-90 (Sept. 18, 2012).

On September 18, 2012, respondents filed a motion to terminate this investigation pursuant to Commission Rule 210.21(a). Respondents argued that no further proceedings are appropriate or necessary in light of the Commission's finding of invalidity concerning the ’455 patent in Inv. No. 337-TA-786. The motion indicated that the Commission investigative attorney did not oppose. On September 27, 2012, Freescale filed a response stating that the Commission's determination in Inv. No. 337-TA-786 that the ’455 is invalid renders its claims in this investigation moot and, as such, it did not oppose the motion to terminate.

On September 28, 2012, the ALJ issued the subject ID, granting respondents' motion to terminate for good cause pursuant to section 210.21(a) of the Commission's Rules of Practice and Procedure (19 CFR 210.21(a)). No petitions for review of the subject ID were filed.

The Commission has determined not to review the ID.

The authority for the Commission's determination is contained in Section 337 of the Tariff Act of 1930, as amended (19 U.S.C. 1337), and in section 210.42 of the Commission's Rules of Practice and Procedure (19 CFR 210.42).

Issued: October 31, 2012.
By order of the Commission.
Lisa R. Barton,
Acting Secretary to the Commission.

[FR Doc. 2012-26896 Filed 11-2-12; 8:45 am]

BILLING CODE 7020-02-P